ENVIRONMENTAL PROTECTION AGENCY

40 CFR Part 52

[R05-OAR-2004-IL-0003; FRL-7861-1]

Approval and Promulgation of Air Quality Implementation Plans; Illinois; Withdrawal of Direct Final Rule

AGENCY: Environmental Protection Agency (EPA).

ACTION: Withdrawal of direct final rule.

SUMMARY: Due to the receipt of an adverse comment, the EPA is withdrawing the November 12, 2004 (69 FR 65378), direct final rule approving a site specific revision to the sulfur dioxide emissions limits for Central Illinois Light Company's Edwards Generating Station in Peoria County, Illinois. The State of Illinois submitted this revision as a modification to the State Implementation Plan for Sulfur Dioxide on July 29, 2003. In the direct final rule, EPA stated that if adverse comments were submitted by December 13, 2004, the rule would be withdrawn and not take effect. On December 13, 2004, EPA received a comment. EPA believes this comment is adverse and, therefore, EPA is withdrawing the direct final rule. EPA will address the comment in a subsequent final action based upon the proposed action also published on November 12, 2004 (69 FR 65394). EPA will not institute a second comment period on this action.

DATES: The direct final rule published at 69 FR 65378 on November 12, 2004 is withdrawn as of January 11, 2005.

FOR FURTHER INFORMATION CONTACT: Mary Portanova, Environmental Engineer, Criteria Pollutant Section, Air Programs Branch (AR-18J), U.S. Environmental Protection Agency, Region 5, 77 West Jackson Boulevard, Chicago, Illinois 60604, Telephone: (312) 353-5954. E-Mail Address: portanova.mary@epa.gov.

List of Subjects in 40 CFR Part 52

Environmental protection, Air pollution control, Incorporation by reference, Intergovernmental relations, Reporting and recordkeeping requirements, Sulfur dioxide.

Authority: 42 U.S.C. 7401 et seq.

Dated: January 4, 2005.
Norman Niedergang,
Acting Regional Administrator, Region 5.

Accordingly, the amendment to 40 CFR 52.720 published in the Federal Register on November 12, 2004 (69 FR 65378) on pages 65378-65381 are withdrawn as of January 11, 2005.

[FR Doc. 05-600 Filed 1-10-05; 8:45 am]

BILLING CODE 6560-50-P